DEPARTMENT OF HEALTH AND HUMAN SERVICES

Administration for Children and Families

President's Committee on Mental Retardation; Notice of Meeting

AGENCY: President's Committee on Mental Retardation (PCMR).

ACTION: Notice of meeting.

DATES: Monday, September 23, 2002, from 8 a.m. to 5 p.m., and Tuesday, September 24, 2002, from 8 a.m. to 11 a.m. The entire meeting of the President's Committee on Mental Retardation will be open to the public.

ADDRESSES: The meeting will be held at the Indian Treaty Room, Old Executive Office Building, 17th Street and Pennsylvania Avenue, Washington, DC 20500. Enter the building at the Pennsylvania Avenue entrance and be prepared to show a photo ID. Please allow extra time for security procedures. It will be necessary for all persons planning to enter the Old Executive Office Building to provide their name, date of birth and social security number no later than September 13, 2002, to the Executive Director, President's Committee on Mental Retardation (see below for contact information). A barrier free entrance is available to the Old Executive Office Building at its 17th and G Streets, NW., entrance. The same security requirements apply for that entrance.

Agenda: The Committee plans to discuss critical issues concerning President George W. Bush's New Freedom Initiative, inter-agency collaboration and cooperation, and removal of barriers to full community integration and improved quality of life for individuals with mental retardation. An interpreter for the deaf will be available upon request.

FOR FURTHER INFORMATION CONTACT: Sally Atwater, President's Committee on Mental Retardation, Room 701, Aerospace Building, 370 L'Enfant Promenade, SW., Washington, DC 20447, telephone—(202) 619-0634, fax—(202) 205-9519, e-mail—satwater@acf.hhs.gov.

SUPPLEMENTARY INFORMATION: The PCMR acts in an advisory capacity to the President and the Secretary of the U.S. Department of Health and Human Services on a broad range of topics relating to programs, services and support for persons with mental retardation. The Committee is responsible for evaluating the adequacy of current practices in programs and support for person with mental retardation, and for reviewing legislative proposals that impact the quality of life that is experienced by citizens with mental retardation and their families. The Committee submits an annual report to the President.

Dated: August 26, 2002.
Sally Atwater,
Executive Director, President's Committee on Mental Retardation.

[FR Doc. 02-22318 Filed 8-30-02; 8:45 am]

BILLING CODE 4184-01-M